NUCLEAR REGULATORY COMMISSION

[Docket No. 030-38679-LA; ASLBP No. 21-972-01-LA-BD01]

In the Matter of Cammenga and Associates, LLC ; Establishment of Atomic Safety and Licensing Board

Pursuant to delegation by the Commission, see 37 FR 28,710 (Dec. 29, 1972), and the Commission's regulations, see, e.g., 10 CFR 2.103, 2.104, 2.105, 2.300, 2.309, 2.313, 2.318, 2.321, notice is hereby given that an Atomic Safety and Licensing Board (Board) is being established to preside over the following proceeding:

Cammenga and Associates, LLC

(Denial of License Amendment Requests)

This Board is being established pursuant to a filing titled “Hearing Request” submitted by Cammenga and Associates, LLC (Cammenga). The filing challenges the NRC Staff's decision in a July 1, 2021 letter denying Cammenga's request for amendments to License No. 21-26460-03E and Sealed Source and Device Registration Certificate NR-0210-D-101-E.

The Board is comprised of the following Administrative Judges:

Ronald M. Spritzer, Chairman, Atomic Safety and Licensing Board Panel, U.S. Nuclear Regulatory Commission, Washington, DC 20555-0001.

Dr. Gary S. Arnold, Atomic Safety and Licensing Board Panel, U.S. Nuclear Regulatory Commission Washington, DC 20555-0001.

Nicholas G. Trikouros, Atomic Safety and Licensing Board Panel, U.S. Nuclear Regulatory Commission Washington, DC 20555-0001.

All correspondence, documents, and other materials shall be filed in accordance with the NRC E-Filing rule. See 10 CFR 2.302.

Rockville, Maryland.
Dated: July 29, 2021.
Edward R. Hawkens,
Chief Administrative Judge, Atomic Safety and Licensing Board Panel.

[FR Doc. 2021-16543 Filed 8-3-21; 8:45 am]

BILLING CODE 7590-01-P